DEPARTMENT OF COMMERCE

National Oceanic and Atmospheric Administration

[I.D. 062106A]

Marine Mammals; File Nos. 1034-1854 and 1070-1783

AGENCY: National Marine Fisheries Service (NMFS), National Oceanic and Atmospheric Administration (NOAA), Commerce.

ACTION: Notice; receipt of applications.

SUMMARY: Notice is hereby given that applications have been received for a permit and a permit amendment for scientific research on marine mammals.

DATES: Written, telefaxed, or e-mail comments must be received on or before July 31, 2006.

ADDRESSES: The applications and related documents are available for review upon written request or by appointment in the following office(s):

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426; and

Southwest Region, NMFS, 501 West Ocean Blvd., Suite 4200, Long Beach, CA 90802-4213; phone (562)980-4001; fax (562)980-4018.

Written comments or requests for a public hearing on these applications should be submitted to the Chief, Permits, Conservation and Education Division, F/PR1, Office of Protected Resources, NMFS, 1315 East-West Highway, Room 13705, Silver Spring, MD 20910. Those individuals requesting a hearing should set forth the specific reasons why a hearing would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier, as applicable: File No. 1034-1854 or 1070-1783.

FOR FURTHER INFORMATION CONTACT: Amy Sloan or Tammy Adams, (301)713-2289.

SUPPLEMENTARY INFORMATION: The subject permit (File No. 1034-1854) and amendment to Permit No. 1070-1783 are requested under the authority of the Marine Mammal Protection Act of 1972, as amended (16 U.S.C. 1361 et seq.), and the Regulations Governing the Taking and Importing of Marine Mammals (50 CFR part 216).

File No. 1034-1854: Dr. Markus Horning, Department of Fisheries & Wildlife, Oregon State University, Hatfield Marine Science Center, 2030 SE Marine Science Drive, Newport, OR 97365, has applied for a permit to conduct research on Weddell seals (Leptonychotes weddellii) to study aging; and specifically, to compare oxygen handling, body condition, muscle physiology, and foraging behavior in young adults and old adults. Over a 2-year period, up to 48 animals would have some or all of the following procedures performed: capture, sedation; morphometrics; ultrasound; blood and muscle samples taken; administration of Evans blue dye and deuterium oxide; external data recorders attached to pelage and internal data recorders administered by gavage; release; recapture to add device to manipulate energy expenditure; and recapture to remove instruments. Up to 250 animals seals would be incidentally harassed during these activities. Samples would be imported into the U.S. for analyses. A 5-year permit is requested to accommodate potential future studies and import of additional samples.

File No. 1070-1783: Dr. Alejandro Acevedo-Gutierrez, Biology Department, Western Washington University, Bellingham, WA 98225-9160, has requested an amendment to Permit No. 1070-1783 for research on seals in Washington. This permit, issued on March 13, 2006 (71 FR 14503), authorizes aerial and vessel surveys of harbor seals (Phoca vitulina) and fecal sample collections from rookeries and haul-out sites in inland waters of Washington. The permit holder requests authorization to (1) increase the number of seals harassed in Padilla and Samish Bays (from 1500 to 2000 with 20 takes per seal in 2006, and to 4000 with 20 takes per seal per year from 2007 to 2010); and (2) extend the location of the research to include a floating dock used as a haul-out in Drayton Harbor, with up to 4800 harbor seals harassed (48 times per seal per year) at this location from 2006 to 2010. The purposes of this amendment request are to increase the sample size to provide a more robust sample size and extend the location of research to include seals throughout the region. The amendment would be valid for the duration of the permit, which expires on March 31, 2011.

Concurrent with the publication of this notice in the Federal Register, NMFS is forwarding copies of these applications to the Marine Mammal Commission and its Committee of Scientific Advisors.

Dated: June 22, 2006.
P. Michael Payne,
Chief, Permits, Conservation and Education Division, Office of Protected Resources, National Marine Fisheries Service.

[FR Doc. 06-5815 Filed 6-28-06; 8:45 am]

BILLING CODE 3510-22-S